DEPARTMENT OF JUSTICE

Drug Enforcement Administration

[Docket No. DEA-646]

Importer of Controlled Substances Application: Scientific Botanical Pharmaceutical, Inc.

ACTION: Notice of application.

DATES: Registered bulk manufacturers of the affected basic class(es), and applicants therefore, may file written comments on or objections to the issuance of the proposed registration on or before June 17, 2020. Such persons may also file a written request for a hearing on the application on or before June 17, 2020

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on January 27, 2017, Scientific Botanical Pharmaceutical, Inc., 1225 West Deer Valley Road Phoenix, Arizona 85027, applied to be registered as an importer of the following basic class(es) of controlled substances:

Controlled substance | Drug Code | Schedule
Marihuana | 7360 | I
Tetrahydrocannabinols | 7370 | I

The company plans to import the listed controlled substances as seeds, cuttings, or other plant tissue material in order to conduct research on genetic development and manufacturing processes. This notice does not constitute an evaluation or determination of the merits of the company's application.

William T. McDermott,
Assistant Administrator.

[FR Doc. 2020-10625 Filed 5-15-20; 8:45 am]

BILLING CODE 4410-09-P